GENERAL SERVICES ADMINISTRATION

41 CFR Part 102-192

[FMR Amendment 2008-06; FMR Case 2003-102-1; Docket 2008-0001; Sequence 4]

RIN 3090-AH13

Federal Management Regulation; FMR Case 2003-102-1; Mail Management

AGENCY: Office of Governmentwide Policy, GSA.

ACTION: Final rule.

SUMMARY: The General Services Administration is amending the Federal Management Regulation (FMR) by revising the current mail management policy. This final rule incorporates changes made to the current interim rule.

DATES: This final rule is effective August 25, 2008.

FOR FURTHER INFORMATION CONTACT: For clarification of content, contact Derrick Miliner, Office of Governmentwide Policy, Mail Management Policy, at (202) 273-3564, or e-mail at derrick.miliner@gsa.gov. The Regulatory Secretariat, Room 4041, GS Building, Washington, DC 20405, at (202) 501-4755 for information pertaining to status or publication schedules. Please cite FMR case 2003-102-1.

SUPPLEMENTARY INFORMATION:

A. Background

On May 29, 2001, the General Services Administration (GSA) published a proposed rule for mail management in the Federal Register (66 FR 29067). After considering all comments received on the proposed rule, GSA published an interim rule for mail management in the Federal Register, which was effective on its publication date, June 6, 2002 (67 FR 38896).

GSA chose to publish an interim rule in 2002 because we recognized that experience would identify some elements of the interim rule that would need to be changed. This final rule reflects that experience.

The significant changes between this final rule and the interim rule are:

1. This final rule removes Appendix A, titled “Large Agency Mailers.” The list of agencies that qualify as large, as defined in this regulation, changes slightly every year. GSA has determined, therefore, that it is better to publish this list on its web site, www.gsa.gov/mailpolicy, rather than in this regulation.

2. This final rule removes Appendix B titled “Mail Center Security Plan.” GSA has determined that this final rule should contain only the basic requirements for security plans, and that any additional guidance should be provided through its web site, www.gsa.gov/mailpolicy. Best practices in mail center security evolve too quickly for inclusion in the FMR. See Subpart C for the minimum requirements for security plans and policies.

3. This final rule removes the minimum size for facilities to have written mail security plans. The Mail Regulation Interagency Working Group decided that any facility processing mail must have a written security plan, regardless of its size, and GSA has adopted that finding in this regulation.

4. This final rule removes from the definition of “mail” packages of any size or weight containing parts and supplies issued from materiel distribution centers. Packages up to 70 pounds containing paper, publications, and similar materials are still included in the definition of mail. GSA has made this change at the request of several agencies, including the Department of Defense and the National Aeronautics and Space Administration. Parts and supplies are not “records,” as envisioned by the Federal Records Management Amendments of 1976 (44 U.S.C. 2901-2904), which provides the authority for this Part.

5. This final rule reestablishes the requirement that every agency must have an agency mail manager and must have a mail center manager at every Federal facility that processes mail; this rule was first established in part 101-9 of the Federal Property Management Regulation (FPMR) (41 CFR part 101-9) and was inadvertently not included in the interim rule.

6. This final rule moves the due date for the annual mail management reports from March 30 to January 15.

7. The interim rule required that all agencies begin using commercial payment processes for mail and stop using the United States Postal Service (USPS) Official Mail Accounting System. Many agencies are currently operating under temporary deviations that give them additional time to meet this requirement. When GSA amended 41 CFR part 102-192 to change the date for this requirement to December 31, 2003, it also stated that “all deviation requests will be required to include a discussion of how the agency has implemented, or plans to implement, an accountable system for making postage payments.” This final rule requires that, in their annual report, all large agencies discuss how they are implementing an accountable system for postage payments, or how they plan to do so. It also requires that all agencies discuss how they plan to implement an accountable system for postage in any deviation requests related to this issue. At the same time, this final rule allows deviations that have not reached their expiration dates to continue in effect until they expire.

B. Executive Order 12866

GSA has determined that this final rule is not a significant rule for the purposes of Executive Order 12866 of September 30, 1993.

C. Regulatory Flexibility Act

This final rule is not expected to have a significant economic impact on a substantial number of small entities within the meaning of the Regulatory Flexibility Act, 5 U.S.C. 601, et seq.

D. Paperwork Reduction Act

The Paperwork Reduction Act does not apply because this final rule does not impose recordkeeping or information collection requirements, or the collection of information from offerors, contractors, or members of the public which require the approval of the Office of Management and Budget (OMB) under 44 U.S.C. 3501, et seq.

E. Small Business Regulatory Enforcement Fairness Act

This final rule is exempt from Congressional review prescribed under 5 U.S.C. 801 since it relates solely to agency management and personnel.

List of Subjects in 41 CFR Part 102-192

Government contracts, Mail, Performance measurement, Records management, Reporting and recordkeeping requirements, Security.

Dated: May 21, 2008.
David L. Bibb,
Acting Administrator of General Services.

For the reasons set forth in the preamble, 41 CFR chapter 102 is amended by revising part 102-192 of Subchapter G to read as follows:

PART 102-192—MAIL MANAGEMENT

Subpart A—Introduction to this Part
Sec.
102-192.5 What does this part cover?
102-192.10 What authority governs this part?
102-192.15 How are “I”, “you”, “me”, “we”, and “us” used in this part?
102-192.20 How are “must” and “should” used in this part?
102-192.25 Does this part apply to me?
102-192.30 What types of mail does this part apply to?
102-192.35 What definitions apply to this part?
102-192.40 Where can we obtain more information about the classes of mail?
102-192.45 How can we request a deviation from these requirements, and who can approve it?
Subpart B—Financial Requirements for All Agencies
102.192.50 What payment processes are we required to use?
102-192.55 Why must we use these commercial payment processes?
102-192.60 How do we implement these commercial payment processes?
102-192.65 What features must our finance systems have to track mail costs?
Subpart C—Security Requirements for All Agencies
102-192.70 What security policies and plans must we have?
102-192.75 Why must we have written security policies and plans?
102-192.80 How do we develop written security policies and plans?
Subpart D—Reporting Requirements
102.192.85 Who must report to GSA annually?
102.192.90 What must we include in our annual mail management report to GSA?
102-192.95 Why does GSA require annual mail management reports?
102-192.100 How do we submit our annual mail management report to GSA?
102-192.105 When must we submit our annual mail management report to GSA?
Subpart E—Performance Measurement Requirements
102-192.110 At what level(s) in our agency must we have performance measures?
102-192.115 Why must we use performance measures?
Subpart F—Agency Mail Manager Requirements
102-192.120 Must we have an agency mail manager?
102.192.125 What is the appropriate managerial level for an agency mail manager?
102-192.130 What are your general responsibilities as an agency mail manager?
Subpart G—Mail Center Manager Requirements
102-192.135 Must we have a mail center manager at our facility?
102.192.140 What are your general responsibilities as a Federal mail center manager?
Subpart H—Program Level Mail Responsibilities
102-192.145 Which program levels should have a mail manager?
102-192.150 What are your general responsibilities as a program level mail manager?
Subpart I—Other Agency Responsibilities
102-192.155 What should our agency-wide mail management policy statement cover?
102-192.160 What less costly alternatives to expedited mail and couriers should your agency-wide mail management policy address?
102-192.165 What authorities must I follow when contracting out all or part of the mail function?
Subpart J—GSA's Responsibilities and Services
102-192.170 What are GSA's responsibilities in mail management?
102-192.175 What types of support does GSA offer to Federal agency mail management programs?

Authority: 44 U.S.C. 2904; 40 U.S.C. 121(c).

Subpart A—Introduction to this Part

§ 102-192.5 What does this part cover?

This part prescribes policy and requirements for the effective, economical, and secure management of incoming, internal, and outgoing mail in Federal agencies.

§ 102-192.10 What authority governs this part?

This part is governed by Section 2 of Public Law 94-575, the Federal Records Management Amendments of 1976 (44 U.S.C. 2901-2904), as amended, that requires the Administrator of General Services to provide guidance and assistance to Federal agencies on records management and defines the processing of mail by Federal agencies as a records management activity.

§ 102-192.15 How are “I”, “you”, “me”, “we”, and “us” used in this part?

In this part, “I”, “me”, and “you” (in its singular sense) refer to agency mail managers and/or facility mail managers. The context makes it clear which usage is intended in each case. “We”, “us”, and “you” (in its plural sense) refer to your Federal agency.

§ 102-192.20 How are “must” and “should” used in this part?

In this part—

(a) “Must” identifies steps that Federal agencies are required to take; and

(b) “Should” identifies steps that the General Services Administration (GSA) recommends.

Note to § 102-192.20: In their internal policy statements, agencies may require steps that GSA recommends. However, agencies may not change required steps into non-mandatory recommendations.

§ 102-192.25 Does this part apply to me?

Yes, this part applies to you if you work in mail management in a Federal agency, as defined in § 102-192.35.

§ 102-192.30 What types of mail does this part apply to?

(a) This part applies to all materials that might pass through a Federal mail center, including—

(1) All internal, incoming, and outgoing materials, regardless of whether or not they currently pass through a mail center; this includes envelopes, publications, postal cards, bulk mail, expedited mail, and individual packages up to 70 pounds that contain paper or publications; and

(2) Materials carried by agency personnel, contractors, the United States Postal Service (USPS), and all other carriers of such items.

(b) This part does not apply to shipments of parts or supplies from a materiel distribution center (a material distribution center is a warehouse that maintains and distributes an inventory of parts and supplies).

§ 102-192.35 What definitions apply to this part?

The following definitions apply to this part:

Accountable mail means any mail for which the service provider and the mail center must maintain a record that shows where the mail piece is at any given time and when and where it was delivered; examples include USPS registered mail and all expedited mail (see definition below).

Agency mail manager means the person who manages the overall mail communications program of a Federal agency.

Class of mail means one of the five categories of domestic mail as defined by the United States Postal Service (USPS) in the Domestic Mail Manual, (C100 through C600.1.z). These are:

(1) Express mail.

(2) First class (includes priority mail).

(3) Periodicals.

(4) Standard mail (e.g., bulk marketing mail).

(5) Package services.

Commingling means combining outgoing mail from one facility or agency with outgoing mail from at least one other source.

Commercial payment processes means mechanisms for paying for USPS postage that are essentially the same as those used by private sector mailers. This means paying for postage before the postage is used (which the U.S. Treasury has determined is appropriate for USPS postage). For meter or permit mail, this also means sending money to the USPS via Electronic Funds Transfer (EFT) transactions to commercial banks designated by the USPS as their financial agents. For stamps and other USPS services, this means paying the USPS directly via cash, charge card, debit card, and money order, depending on the specific service being purchased.

Expedited mail means mail designated for delivery more quickly than the USPS's normal delivery times (which vary by class of mail). Examples of expedited mail include USPS Express Mail and overnight and two-day delivery by other service providers.

Facility mail manager means the person responsible for mail in a specific Federal facility. There may be many facility mail managers within a Federal agency.

Federal agency (or agency), as defined in 44 U.S.C. 2901(14), means—

(1) Any executive department as defined in 5 U.S.C. 101;

(2) Any wholly owned Government corporation as defined in 31 U.S.C. 9101;

(3) Any independent establishment in the executive branch as defined in 5 U.S.C. 104; and

(4) Any establishment in the legislative branch, except the Senate, the House of Representatives, the Architect of the Capitol, and all activities under the direction of the Architect of the Capitol.

Federal facility (or facility) means any office building, installation, base, etc., where Federal agency employees work; this includes any facility where the Federal government pays postage expenses even though few or no Federal employees are involved in processing the mail.

Incoming mail means any mail that comes into a facility delivered by any service provider, such as the USPS, United Parcel Service (UPS), FedEx, or DHL.

Internal mail means mail generated within a Federal facility that is delivered within that facility or to a nearby facility of the same agency, so long as it is delivered by agency personnel or a dedicated agency contractor.

Large agency means a Federal agency whose total payments to all mail service providers exceed $1 million per fiscal year.

Mail means the types of mail described in § 102-192.30.

Mail center means an organization and/or place, within or associated with a Federal facility, where incoming and/or outgoing Federal mail is processed.

Mail costs means direct or allocated expenses for postage and all other mail costs (e.g., payments to service providers, mail center personnel costs, mail center overhead, etc.).

Mail piece design means laying out and printing items to be mailed so that they can be processed efficiently and effectively by automated mail-processing equipment.

Official Mail Accounting System (OMAS) means the U.S. Postal Service's government-specific system used to track postage used by many Federal agencies.

Outgoing mail means mail generated within a Federal facility that is going outside that facility and is delivered by a service provider.

Personal mail means incoming or outgoing mail that is not related to official business of the Federal government.

Postage means money due or paid to any service provider for the delivery of mail.

Presort means a mail preparation process used to receive a discounted mailing rate by sorting mail according to USPS standards.

Program level means a subsidiary part of a Federal agency that generates a significant quantity of outgoing mail (“significant” in this context is relative to the overall size of the agency's mail budget; half of a small annual mail budget may not be significant in a small agency, whereas one-tenth or less might be significant in a large agency). The term program level may apply to an agency organizational entity, program, or project.

Program level mail manager is the person at the program level responsible for mail policy implementation, operations, and financial management; the program level counterpart of the agency mail manager.

Service provider means any agency or company that delivers mail. Some examples of service providers are USPS, UPS, FedEx, DHL, courier services, the Military Postal Service Agency, the Department of State's Diplomatic Pouch and Mail Division, and other Federal agencies providing mail services.

Special services means those mail services that require extra payment over basic postage; e.g., certified mail, business reply mail, registered mail, merchandise return service, certificates of mailing, return receipts, and delivery confirmation.

Unauthorized use of agency postage means the use of penalty or commercial mail stamps, meter impressions, or other postage indicia for personal or unofficial use.

Worksharing means ways of processing outgoing mail that qualify for reduced postage rates; examples include presorting, bar coding, consolidating, and commingling.

§ 102-192.40 Where can we obtain more information about the classes of mail?

You can learn more about mail classes in the Domestic Mail Manual (DMM). The DMM is available online at http://pe.usps.gov/default.asp or you can order a copy from the Superintendent of Documents, U.S. Government Printing Office, P.O. Box 371954, Pittsburgh, PA 15250-7954.

§ 102-192.45 How can we request a deviation from these requirements, and who can approve it?

See §§ 102-2.60 through 102-2.110 of this chapter to request a deviation from the requirements of this part. The authority rests with the Administrator of General Services and those to whom the Administrator has delegated such authority.

Subpart B—Financial Requirements for All Agencies

§ 102-192.50 What payment processes are we required to use?

All payments to the United States Postal Service or authorized service providers must be made using commercial payment processes.

(a) Agencies may no longer use the Intergovernmental Payment and Collection Payment (IPAC) process associated with the Official Mail Accounting System (OMAS), except where GSA has approved a temporary deviation for a specific agency, office, or component.

(b) Any deviation related to the requirements of this section that has not reached its expiration date on the effective date of this rule will continue in effect until it expires.

(c) Any new deviation request, or any request to extend an existing deviation, must include a plan for the agency to implement an accountable system for postage, as discussed in § 102-192.65.

(d) GSA provides detailed guidance on commercial payment processes and accountability on its web site, www.gsa.gov/mailpolicy.

§ 102-192.55 Why must we use these commercial payment processes?

Federal agencies are required to use commercial payment processes because commercial payment requires obligation of the money before the postage is used (by contrast, use of the OMAS system allows the postage use and the obligation of funds to occur almost entirely independently of each other). Requiring the program level manager who generates the mail to obligate the money before the postage is used makes it much more likely that the same program level manager will be accountable for the money, thereby encouraging good judgment in using postage.

§ 102-192.60 How do we implement these commercial payment processes?

Guidance on implementing a compliant payment process is in the GSA Policy Advisory, Guidelines for Federal Agencies On Converting to Commercial Payment Systems for Postage, which can be found at www.gsa.gov/mailpolicy.

§ 102-192.65 What features must our finance systems have to keep track of mail costs?

All agencies must have an accountable system for making postage payments; that is, a system that allocates postage expenses at the program level within the agency and then makes program level managers accountable for obligating and tracking those expenses. The agency will have to determine the appropriate program level for this requirement, because the level at which it is cost-beneficial differs widely. The agency's finance system(s) should track all mail costs separately to the program level or below, and should—

(a) Show allocations and expenses for postage and all other mail costs (e.g., payments to service providers, mail center personnel costs, mail center overhead, etc.) separate from all other administrative expenses;

(b) Allow mail centers to establish systems to charge their customers for mail costs; and

(c) Identify and charge mail costs that are part of printing contracts to the program level.

Note to § 102-192.65: To better accomplish these goals listed in this section, you should maintain separate accounts with the USPS and all other service providers for mail, as defined by this Part. Shipment of non-mail items should be arranged and paid for through other accounts. This will make it possible for your annual mail management report to reflect only amounts paid for mail, as defined in § 102-192.35.

Subpart C—Security Requirements for All Agencies

§ 102-192.70 What security policies and plans must we have?

(a) You must have a written mail security policy that applies throughout the agency.

(b) You also must have a written mail security plan for each facility that processes mail, regardless of the facility's mail volume.

(c) If a contract that is in place on August 25, 2008 does not fully meet the requirements of this section, the contract must be modified to meet the requirement for a security plan within one year of August 25, 2008, unless the contract will expire prior to that date.

(d) The scope and level of detail of each facility mail security plan should be commensurate with the size and responsibilities of each facility. For small facilities, you may provide a general, standardized plan that is used in many similar locations. For larger locations, you must develop a plan that is specifically tailored to the threats and risks at your location. Agencies are free to determine for themselves which facilities are “smaller” and which are “larger” for the purposes of this section, so long as the basic requirement for a security plan is met at every facility.

(e) All mail facility managers should report annually the status of their facility mail security plans to agency headquarters. At a minimum, this report should assure that the facility mail security plan complies with the requirements of this part, including annual review by a subject matter expert and regular rehearsal of responses to various emergency situations by facility personnel.

(f) An outside security professional who has expertise in mail center security should review the agency's mail security plan annually. Review of facility mail security plans can be accomplished by outside subject matter experts such as agency security personnel. If these experts are not available within your agency, seek assistance from the Postal Inspection Service or other Federal authorities.

§ 102-192.75 Why must we have written security policies and plans?

All Federal mail programs must identify, prioritize, and coordinate the protection of all mail processing facilities in order to prevent, deter, and mitigate the effects of deliberate efforts to destroy, incapacitate, or exploit the mail center or the national mail infrastructure. Homeland Security Presidential Directive HSPD-7 requires all agencies to protect key resources from terrorist attacks, and this is spelled out in the Postal and Shipping Sector Plan, which is part of the National Infrastructure Protection Plan (NIPP) prescribed by HSPD-7. All Federal mail centers are key resources under that plan. Details on the Postal and Shipping Sector Plan are not publicly available. Federal employees needing access to the plan should contact the Department of Homeland Security (DHS) at NIPP@dhs.gov.

§ 102-192.80 How do we develop written security policies and plans?

Agency mail managers must coordinate with their agency security service and/or the Federal Protective Service to develop agency mail security policies and plans. The Federal Protective Service has, working with the Interagency Security Committee which it chairs, developed standards for building construction and management, including standards for mail centers. At a minimum, the agency mail security plan must address the following topics—

(a) Risk assessment;

(b) Plan to protect staff and all other occupants of agency facilities from hazards that might be delivered in the mail;

(c) Operating procedures;

(d) Plan to provide a visible mail screening operation;

(e) Training mail center personnel;

(f) Testing and rehearsing responses to various emergency situations by agency personnel;

(g) Managing threats;

(h) Communications plan;

(i) Occupant Emergency Plan (OEP);

(j) Continuity of Operations Plan (COOP); and

(k) Annual reviews.

Note to § 102-192.80: The agency mail manager and facility manager(s) need not prepare all of these plans themselves. They should participate actively in the development and implementation of each of these elements, but other parts of the agency or outside security professionals should take the lead in their respective areas of expertise.

Subpart D—Reporting Requirements

§ 102-192.85 Who must report to GSA annually?

Large agencies (all agencies that spend in excess of $1 million each fiscal year in total payments to mail service providers) must provide a Mail Management Report to GSA by January 15th of each year. If your agency is a cabinet-level or independent agency, the agency mail manager must compile all offices (or components) and submit one report for the department or agency as a whole (e.g., the Department of Defense or the Department of Health and Human Services).

§ 102-192.90 What must we include in our annual mail management report to GSA?

Your annual report must—

(a) Identify your agency mail manager; in addition you must promptly report the name of the agency mail manager whenever there is a change of the person serving in this role.

(b) State the total amounts paid to each service provider during the previous fiscal year:

(1) These amounts should include only amounts paid for mail; not amounts paid to any service provider to ship parts and supplies from a materiel distribution center (see the definition of mail in § 102-192.30).

(2) These amounts should include all postage costs associated with mailing printed materials, regardless of whether the printing is accomplished by the agency or a contractor, and regardless of how the postage expense is paid (e.g., GSA's Federal Acquisition Service (FAS) produces a publication called “Marketips,” which provides information about supplies and services available through GSA sources. GSA should include the postage that it uses to mail Marketips in the amounts that it reports, even though a printing company actually prints and mails the publication);

(c) Report actual results for the performance measures in use at the agency and facility levels;

(d) Describe your agency's accomplishments and plans to improve the economy and efficiency of mail operations in the current and future years;

(e) Identify how many Federal employees and contractors work in your agency's mail operations nationwide, and the number that have achieved industry certifications (e.g. Certified Mail and Distributions Systems Manager, Executive Mail Center Manager, Mailpiece Quality Control Specialist, Certified Mail Manager);

(f) Describe your agency's approach to ensuring that program level officials are accountable for postage; and

(g) Verify that a competent expert has reviewed your agency security policies and the mail security plan for each facility within the past year, or explain what steps your agency has taken in this regard.

Note to § 102-192.90: GSA is launching a long-term initiative to improve the usefulness of data collected through the annual mail management reports. The reports for each succeeding fiscal year will require an incrementally broader set of data, working towards measures that will give agency management a much clearer picture of the efficiency and effectiveness of their mail programs. The additional data will eventually require agencies to track cost per piece for all outgoing Federal mail.

§ 102-192.95 Why does GSA require annual mail management reports?

GSA requires annual agency mail management reports to—

(a) Ensure that Federal agencies have the policies, procedures, and data to manage their mail operations efficiently and effectively;

(b) Ensure that appropriate security measures are in place; and

(c) Allow GSA to fulfill its responsibilities under the Federal Records Act, especially with regards to sharing best practices, training, standards, and guidelines.

§ 102-192.100 How do we submit our annual mail management report to GSA?

If your agency is a large agency, as defined in § 102-192.35, you must submit annual reports using the GSA web-based Electronic Performance Support Tool (EPST). Agency mail managers and other authorized users will receive training from GSA on how to use the EPST.

§ 102-192.105 When must we submit our annual mail management report to GSA?

Beginning with the report covering Fiscal Year 2009, your annual report will be due on January 15th of each year for the previous fiscal year.

Subpart E—Performance Measurement Requirements

§ 102-192.110 At what level(s) in our agency must we have performance measures?

You must have performance measures for mail operations at the agency level and in all facilities and for all program levels that spend more than $1 million per year on postage. GSA provides a list of suggested performance measures, as part of the format for the annual report. You may also find these measures on GSA's web site, at www.gsa.gov/mailpolicy.

§ 102-192.115 Why must we use performance measures?

Performance measures gauge the success of your mail management plans and processes by comparing performance over time and among organizations. Performance measures—

(a) Help define goals and objectives;

(b) Enhance resource allocation; and

(c) Provide accountability.

Subpart F—Agency Mail Manager Requirements

§ 102-192.120 Must we have an agency mail manager?

Yes, every Federal agency as defined in § 102-192.35 must have an agency mail manager. Agencies that are not “large agencies” as defined in § 102-192.35 may not need a full-time person in this position.

Note to § 102-192.120: GSA will post the names and official contact information for all large agency mail managers on its web site located at www.gsa.gov/mailpolicy.

§ 102-192.125 What is the appropriate managerial level for an agency mail manager?

The agency mail manager should be at a managerial level that enables him or her to speak for the agency and fulfill the requirements of Subparts B, C, D, E, and F of this part. GSA recommends professional mail certification for agency mail managers.

§ 102-192.130 What are your general responsibilities as an agency mail manager?

In addition to carrying out the responsibilities in Subparts B, C, D, and E of this part, an agency mail manager should—

(a) Establish written policies and procedures to provide timely and cost effective dispatch and delivery of mail;

(b) Ensure agency-wide awareness and compliance with standards and operational procedures established by all service providers used by the agency;

(c) Set policies for expedited mail, mass mailings, mailing lists, and couriers;

(d) Seek opportunities to implement cost-effective improvements and to enhance performance of the agency's mission;

(e) Develop and direct agency programs and plans for proper and cost-effective use of transportation, equipment, and supplies used for mail;

(f) Ensure that facility and program level mail personnel receive appropriate certifications and training in order to successfully perform their assigned duties;

(g) Promote professional certification for mail managers and mail center employees;

(h) Ensure that expedited mail and couriers are used only when authorized by the Private Express Statutes (39 U.S.C. 601-606) and when necessary and cost-effective;

(i) Establish written policies and procedures to minimize incoming and outgoing personal mail;

(j) Provide guidance to agency correspondence managers on correspondence management decisions such as development and design of mailing materials including Business Reply Mail, letterhead, and mail piece design; and

(k) Represent the agency in its relations with mail service providers (usually as a Contracting Officer's Technical Representative), other agency mail managers, and the GSA Office of Governmentwide Policy.

Subpart G—Mail Center Manager Requirements

§ 102-192.135 Must we have a mail center manager at our facility?

Yes, every facility that has more than two full time people dedicated to processing mail must have a mail center manager.

§ 102-192.140 What are your general responsibilities as a Federal mail center manager?

A Federal mail center manager should—

(a) Implement policies and procedures developed by the agency mail manager, including cost control procedures;

(b) Improve, streamline, and reduce the cost of mail practices and procedures by continually reviewing work processes throughout the facility and seeking opportunities for cost-effective change;

(c) Work closely with all facility personnel, especially printing specialists and the program level users who develop large mailings, to minimize postage and associated printing expenses through improved mail piece design, electronic transmission of data in lieu of mail, reducing the number of handwritten addresses on outgoing mail, and other appropriate measures;

(d) Ensure that all addresses on mailing lists have been validated using USPS-approved tools such as ancillary endorsements, CASS-certified software, Move Update, and NCOAlink® (more information can be found on the United States Postal Service website at www.usps.com);

(e) Keep current on new technologies that could be applied to reduce agency mailing costs;

(f) Collaborate and maintain professional relationships with the USPS and all other service providers;

(g) Establish performance measures and goals for mail center operations, such as a maximum time for processing and delivery of incoming mail;

(h) Ensure that expedited mail and couriers are used only when authorized by the Private Express Statutes (39 U.S.C. 601-606) and when necessary and cost-effective;

(i) Manage all incoming and outgoing mail processing activities at the facility, including all regularly scheduled, small package, and expedited service providers, couriers, equipment and personnel;

(j) Be attentive to unauthorized use, loss, or theft of postage, including any unauthorized use of penalty or commercial mail stamps, meter impressions or other postage indicia, and immediately report such incidents to the agency Inspector General, internal security office, the Postal Inspection Service, or other appropriate authority;

(k) Track incoming packages and accountable mail;

(l) Provide training to mail center employees at all levels on cost-effective mailing practices for incoming, outgoing, and internal mail, as well as mail security;

(m) Provide opportunities for training leading to professional certification for mail center personnel;

(n) Ensure that outgoing mail meets all the standards established by your service provider(s) for weight, size, hazardous materials content, etc.;

(o) Ensure that your facility has a written security plan, and implement that plan;

(p) Establish, publish, and maintain consistency in the facility's mail delivery and pickup times, based on need for service as established through study of mail volumes and service requirements;

(q) Collaborate with agency finance officials to establish procedures for timely processing of funds owed to service providers; and

(r) Report all information necessary for your agency's annual mail management report.

Subpart H—Program Level Mail Responsibilities

§ 102-192.145 Which program levels should have a mail manager?

Every program level within a Federal agency that generates a significant quantity of outgoing mail should have its own mail manager. Each agency must decide which programs will have a full-time or part-time mail manager. In making this determination, the agency should consider the total volume of outgoing mail that is put into the mail stream by the program itself or by printers, presort contractors, or others on the program's behalf.

§ 102-192.150 What are your general responsibilities as a program level mail manager?

Your responsibilities at the program level include—

(a) Working closely with the agency mail manager and mail center managers who handle significant quantities of mail or print functions for your program, as well as mail technical experts;

(b) Ensuring that your program complies with all applicable mail policies and procedures, including this part;

(c) Coordinating with your program personnel to minimize postage and associated printing expenses through improved mail piece design, electronic transmission of data in lieu of mail, and other appropriate measures;

(d) Ensuring that all addresses on mailing lists have been validated using USPS-approved tools such as ancillary endorsements, CASS-certified software, Move Update, and NCOAlink® (more information can be found on the United States Postal Service website at www.usps.com);

(e) Keeping current on new technologies and practices that could reduce your mailing costs or make your use of mail more effective;

(f) Coordinating all of your program's large mailings and associated print jobs to ensure that the most efficient and effective procedures are used;

(g) Providing mail training opportunities to your program level personnel;

(h) Collaborating with agency finance officials to establish procedures for timely processing of funds owed to service providers; and

(i) Reporting total amounts paid to each service provider during the previous fiscal year to the agency mail manager (See § 102-192.90(b)(1) for more information).

Subpart I—Other Agency Responsibilities

§ 102-192.155 What should our agency-wide mail management policy statement cover?

You should have a written, agency-wide mail management policy statement that, at a minimum, addresses—

(a) Mail center security, as discussed in §§ 102-192.70, 102-192.75 and 102-192.80;

(b) Your expectations regarding program level accountability, postage expenditure data, and commercial payment processes;

(c) Your approach to performance measurement and performance management for mail;

(d) Centralized mail processing, worksharing, consolidation, and commingling to obtain postage savings;

(e) Tracking incoming packages and accountable mail;

(f) Maintaining centralized control of outgoing mail, especially outgoing express packages and letters;

(g) Tracking and managing mail costs within printing contracts;

(h) Training and professional certification for mail center managers and employees;

(i) Addressing, including machine readability, formatting, use of correct street addresses, and minimizing use of hand-written addresses;

(j) Ensuring that a USPS mail piece design analyst is consulted when creating a new mail piece;

(k) Reviewing large mailings by mail managers before they are sent to printing or a print contractor;

(l) Acceptance and processing of incoming and outgoing personal mail;

(m) Limiting unsolicited mail and mail addressed to unknown persons and former employees; and

(n) Reporting all activities to include all postage costs associated with mailing, printing, and materials, to the agency mail manager.

Note (1) to § 102-92.155 (l) and (m): Every agency should establish specific policies for incoming and outgoing personal mail. In general, personal mail should be discouraged or prohibited. However, an agency may establish a policy to accept and process personal mail for personnel living on a Federal facility, personnel stationed outside the United States, or personnel in other situations who would otherwise suffer hardship.

Note (2) to § 102-92.155 (l) and (m): Mailing costs associated with filing travel vouchers, and the payment of Government sponsored travel card billings, are considered to be “incidental expenses” covered by the traveler's “per diem allowance,” as provided for in the Federal Travel Regulation (41 CFR 300-3.1). Such mailing costs must, therefore, be paid out of the employee's per diem allowance.

Note (3) to § 102-92.155 (l) and (m): Every reasonable attempt must be made to deliver first class mail, priority mail, and express mail (regardless of carrier), or to return it to the sender if the addressee cannot be identified. On the other hand, agencies may establish written policies that permit discarding of unwanted periodicals, bulk mail, and bound printed matter under specified circumstances.

§ 102-192.160 What less costly alternatives to expedited mail and couriers should your agency-wide mail management policy address?

Your policy statement should address the following alternatives to expedited mail and couriers:

(a) Electronic transmission via e-mail.

(b) Facsimile transmission.

(c) Internet.

§ 102-192.165 What authorities must I follow when contracting out all or part of the mail function?

Any contract for a mail function must require compliance with—

(a) This part (41 CFR part 102-192);

(b) The Private Express Statutes (39 U.S.C. 601-606);

(c) All agency policies, procedures, and plans, including the agency-wide mail security plan and, if applicable, facility mail security plans; and

(d) All applicable acquisition statutes and regulations.

Subpart J—GSA's Responsibilities and Services

§ 102-192.170 What are GSA's responsibilities in mail management?

44 U.S.C § 2904(b) directs the Administrator of General Services to provide guidance and assistance to Federal agencies to ensure economical and efficient records management. 44 U.S.C. § 2901(2) and (4) (C) define the processing of mail by Federal agencies as part of records management. In carrying out its responsibilities under the Act, GSA is required to—

(a) Promulgate standards, procedures, and guidelines;

(b) Conduct research to improve practices and programs;

(c) Collect and disseminate information on training programs, technological developments, etc.;

(d) Establish an interagency committee (i.e., the Interagency Mail Policy Council) to provide an exchange of information among Federal agencies;

(e) Conduct studies, inspections, or surveys;

(f) Promote economy and efficiency in the selection and utilization of space, staff, equipment, and supplies; and

(g) In the event of an emergency, communicate with agencies.

§ 102-192.175 What types of support does GSA offer to Federal agency mail management programs?

GSA supports Federal agency mail management programs by—

(a) Assisting in the development of agency policy and guidance in mail management and mail operations;

(b) Identifying better business practices and sharing them with Federal agencies;

(c) Developing and providing access to a Governmentwide management information system for mail;

(d) Helping agencies develop performance measures and management information systems for mail;

(e) Maintaining a current list of agency mail managers;

(f) Establishing, developing and maintaining interagency mail committees;

(g) Maintaining liaison with the USPS and other service providers at the national level;

(h) Maintaining a web site for mail communications policy; and

(i) Serving as a point of contact for mail issues.

Note to § 102-192.180: You may contact GSA at: General Services Administration, Office of Governmentwide Policy, Mail Management Policy Division (MTT), 1800 F Street, NW., STE 1221, Washington, DC 20405; or e-mail: federal.mail@gsa.gov.

[FR Doc. E8-19506 Filed 8-22-08; 8:45 am]

BILLING CODE 6820-14-S